DEPARTMENT OF ENERGY

Federal Energy Regulatory Commission

[Docket No. CP07-421-000]

Southern Star Central Gas Pipeline, Inc.; Notice of Request Under Blanket Authorization

July 27, 2007.

Take notice that on July 17, 2007, Southern Star Central Gas Pipeline, Inc (Southern Star), 4700 Highway 56, Owensboro, Kentucky 42301, filed in Docket No. CP07-421-000 a prior notice request pursuant to sections 157.205 and 157.211 of the Commission's regulations under the Natural Gas Act (NGA) to construct and operate a new 12-inch delivery meter station and interconnecting facilities to serve as a bypass of a local distribution company. The proposed facilities would serve Aquila, Inc. (Aquila) d/b/a Aquilia Networks at Aquila's electric generating plant Buchanan County, Missouri, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Southern Star proposes to install a side valve, an 8-inch lateral pipeline approximately 59 feet long, a flow computer and communications equipment necessary for the new interconnection with Aquila. Aquila will construct associated metering facilities within its electric generation plant site. The new meter station will be known as the Aquila-St. Joe/Lake Road Delivery Measurement setting #16911. The cost of the facilities is estimated to be $296,000.

Aquila currently receives its natural gas service from Missouri Gas Energy (MGE), a local distribution company. Aquila wishes to receive its primary gas service from Southern Star and would maintain its connection with MGE in order to serve as backup gas delivery service. Aquila has requested Southern Star to provide interruptible natural gas delivery service to its electric generating plant of up to 17,500 Mcf per day through the delivery point described above. Southern Star states that it has notified MGE of the proposed delivery point directly.

Any questions concerning this application may be directed to David N. Roberts, Manager of Regulatory Affairs, Southern Star Central Gas Pipeline, Inc., 4700 Highway 56, Owensboro, Kentucky 42301, or telephone (270) 852-4654.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E7-15072 Filed 8-2-07; 8:45 am]

BILLING CODE 6717-01-P